DEPARTMENT OF COMMERCE

Foreign-Trade Zones Board

[B-51-2016]

Foreign-Trade Zone (FTZ) 126—Reno, Nevada; Authorization of Production Activity; Tesla Motors, Inc.; Subzone 126D (Lithium-Ion Batteries, Electric Motors and Stationary Energy Storage Systems); Sparks, Nevada

On July 20, 2016, the Economic Development Authority of Western Nevada, grantee of FTZ 126, submitted a notification of proposed production activity to the FTZ Board on behalf of Tesla Motors, Inc., operator of Subzone 126D, for its facility located in Sparks, Nevada.

The notification was processed in accordance with the regulations of the FTZ Board (15 CFR part 400), including notice in the Federal Register inviting public comment (81 FR 52824, August 10, 2016). The FTZ Board has determined that no further review of the activity is warranted at this time. The production activity described in the notification is authorized, subject to the FTZ Act and the Board's regulations, including Section 400.14.

Dated: November 17, 2016.
Andrew McGilvray,
Executive Secretary.

[FR Doc. 2016-28378 Filed 11-23-16; 8:45 am]

BILLING CODE 3510-DS-P